DEPARTMENT OF COMMERCE

Foreign-Trade Zones Board

[B-35-2023]

Foreign-Trade Zone (FTZ) 207, Notification of Proposed Production Activity; LEGO Manufacturing Richmond, Inc.; (LEGO® Bricks and Toy Sets); Chester and Colonial Heights, Virginia

The LEGO Group submitted a notification of proposed production activity to the FTZ Board (the Board) for the LEGO Manufacturing Richmond, Inc. facilities in Chester and Colonial Heights, Virginia, within FTZ 207. The notification conforming to the requirements of the Board's regulations (15 CFR 400.22) was received on May 24, 2023.

Pursuant to 15 CFR 400.14(b), FTZ production activity would be limited to the specific foreign-status material(s)/component(s) and specific finished product(s) described in the submitted notification (summarized below) and subsequently authorized by the Board. The benefits that may stem from conducting production activity under FTZ procedures are explained in the background section of the Board's website—accessible via www.trade.gov/ftz.

The proposed finished products include LEGO® construction toy sets, and plastic, molded, interlocking bricks and various shapes and figurines (duty rate is duty-free).

The proposed foreign-status materials and components include: color additives in the form of plastic granulates (synthetic organic; preparations based on titanium dioxide; ultramarine; inorganic mixtures or combinations); decoration inks; ink diluents; plastic resins; self-adhesive plastic rolls; auto-adhesive stickers and paper stickers; plastic components (foil in rolls; boxes; trays; toy containers; storage bags); polyester storage bags; tissue wrapping paper; paper coated with plastic in rolls; cardboard cartons (non-corrugated; corrugated); rigid paperboard boxes; paper pulp trays; printed labels; molded paper pulp containers; advertising materials; toy set building instructions; nylon components (yarn; string; twine); metal contact plates for battery-powered toy sets; power adapters; batteries (lithium; rechargeable); sound cards; power switches; control hubs for power, sensors, and motors; micro controllers; USB cables with sleeves; sensors (motion; spatial); and, plastic, molded, interlocking bricks and various shapes and figurines (duty rate ranges from duty-free to 17.6%). The request indicates that certain materials/components are subject to duties under section 301 of the Trade Act of 1974 (section 301), depending on the country of origin. The applicable section 301 decisions require subject merchandise to be admitted to FTZs in privileged foreign status (19 CFR 146.41).

Public comment is invited from interested parties. Submissions shall be addressed to the Board's Executive Secretary and sent to: ftz@trade.gov. The closing period for their receipt is July 11, 2023.

A copy of the notification will be available for public inspection in the “Online FTZ Information System” section of the Board's website.

For further information, contact Juanita Chen at juanita.chen@trade.gov.

Dated: May 25, 2023.
Elizabeth Whiteman,
Executive Secretary.

[FR Doc. 2023-11618 Filed 5-31-23; 8:45 am]

BILLING CODE 3510-DS-P